SURFACE TRANSPORTATION BOARD

[Docket No. FD 35997]

County of Greenville, S.C.—Acquisition Exemption—Rail Line of Greenville County Economic Development Corporation

The County of Greenville, S.C. (County), a non-operating Class III rail carrier and political subdivision of the State of South Carolina, has filed a verified notice of exemption under 49 CFR 1150.41 to acquire from Greenville County Economic Development Corporation (GCEDC) approximately 3.29 miles of rail-banked line between milepost AJK 585.34 in East Greenville, S.C., and milepost AJK 588.63 in Greenville, S.C. (the Line), and to acquire GCEDC's residual common carrier obligation on the Line.¹

¹ The Line is rail banked pursuant to § 8(d) of the National Trails System Act, 16 U.S.C. 1247(d). See Greenville Cty. Econ. Dev. Corp.—Aban. Exemption—in Greenville Cty, S.C., AB 490 (Sub-No. 2X) (STB served May 18, 2015). In a letter filed on September 14, 2015, in Docket No. AB 490 (Sub-No. 2X), the County and GCEDC jointly notified the Board that an interim trail use/rail-banking agreement had been reached between the parties. Currently, the County is the trail sponsor, and GCEDC is the owner of the Line and holder of the residual common carrier right to reactivate rail service.

According to the County, it has reached an agreement with GCEDC pursuant to which, upon the effectiveness of this transaction, GCEDC will transfer to the County the entirety of its interest in the Line, including its residual common carrier obligation. The end result will be that all of GCEDC's ownership rights and responsibilities in the Line will be transferred to the County and remain rail-banked.

The County states that the proposed acquisition will not involve any provision or agreement between GCEDC and the County that would limit future interchange with a third-party connecting carrier.

The transaction may be consummated on or after March 13, 2016 (30 days after the notice of exemption was filed).

The County certifies that its projected annual revenues as a result of this transaction will not result in its becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions for stay must be filed no later than March 4, 2016 (at least seven days before the exemption becomes effective).

An original and 10 copies of all pleadings, referring to Docket No. FD 35997, must be filed with the Surface Transportation Board, 395 E Street SW., Washington, DC 20423-0001. In addition, a copy must be served on William A. Mullins, Baker & Miller PLLC, 2401 Pennsylvania Ave. NW., Suite 300, Washington, DC 20037.

According to the County, this action is categorically excluded from environmental review under 49 CFR 1105.6(c).

Board decisions and notices are available on our Web site at “WWW.STB.DOT.GOV.”

Decided: February 23, 2016.
By the Board, Rachel D. Campbell, Director, Office of Proceedings.
Kenyatta Clay,
Clearance Clerk.

[FR Doc. 2016-04162 Filed 2-25-16; 8:45 am]

BILLING CODE 4915-01-P